DEPARTMENT OF COMMERCE

National Oceanic and Atmospheric Administration

Advisory Committee for the Sustained National Climate Assessment

AGENCY: Office of Oceanic and Atmospheric Research (OAR), National Oceanic and Atmospheric Administration (NOAA) Department of Commerce (DOC).

ACTION: Notice of public meeting.

SUMMARY: The Advisory Committee for the Sustained National Climate Assessment will hold its next meeting at the time and location listed below.

DATES: The public meeting will be held on Tuesday, March 7 and Wednesday, March 8, 2017. Registration, written statements, requests to make oral comments, and requests for special accommodations should be received at one of the addresses below on or before February 28, 2017.

The meeting is scheduled for 8:00 a.m. EST to 5:30 p.m. EST both days. There will be a 30-minute public comment period on March 7 from 4:30 to 5:00 p.m. These times and the agenda topics described below are subject to change. Please refer to the Web page http://sncaadvisorycommittee.noaa.gov/Meetings.aspx for the most up-to-date meeting times and agenda.

ADDRESSES: The meeting will be held at the DoubleTree, 8120 Wisconsin Ave., Bethesda, Maryland 20814-3624.

Individuals and groups may register, submit written statements, request to make oral comments, and/or request special accommodations (see additional information below) by either of the following methods:

• Send an email message to snca.advisorycommittee@noaa.gov. Please include `March 2017 Meeting' on the subject line; or

• Send paper statements to Laura Letson, Advisory Committee Executive Director, SSMC3, Room 11359, 1315 East-West Highway, Silver Spring, MD 20910.

FOR FURTHER INFORMATION CONTACT: Laura Letson, Advisory Committee Executive Director, SSMC3, Room 11359, 1315 East-West Highway, Silver Spring, MD 20910; Email: snca.advisorycommittee@noaa.gov; or visit the Advisory Committee Web site http://sncaadvisorycommittee.noaa.gov.

SUPPLEMENTARY INFORMATION: Matters to be Considered: The meeting will include updates on:(1) The Fourth National Climate Assessment process; (2) data and tools developed to support sustained assessment; (3) approaches to sustained partnerships developed in regional science organizations and other groups; (4) state-level assessment activities; and (5) the Advisory Committee's work plan. Meeting material, including work products will be made available on the Advisory Committee's Web site: http://sncaadvisorycommittee.noaa.gov/Meetings.aspx.

Written Comments: Pursuant to section 10(a) (3) of the FACA and 41 CFR 102-3.105(j) and 102-3.140, the public or interested organizations may submit written comments to the Advisory Committee in response to the stated agenda and meeting material. The Advisory Committee expects that public statements presented at its meetings will not be repetitive of previously submitted verbal or written statements. Comments may be submitted to Executive Director at the contact information indicated above. Written comments should be received in the Executive Director's Office by February 28 to provide sufficient time for Advisory Committee review. Written comments received by the Executive Director after February 28, will be distributed to the Advisory Committee, but may not be reviewed prior to the meeting date.

Oral Comments: In addition to written statements, members of the public may present oral comments during the public comment period on March 7, 2017. Time will be allocated on a first-come, first-served basis. Time allotted for an individual's comment period will be limited to no more than 3 minutes. If the number of registrants requesting to speak is greater than can be reasonably accommodated during the scheduled public comment periods, written comments can be submitted in lieu of oral comments. To request to make oral comments, please use the contact information indicated above.

Registration: Individuals and groups who wish to attend the public meeting are requested to pre-register by February 28, 2017. To register, please use the contact information indicated above.

Special Accommodations: These meetings are physically accessible to people with disabilities. Please submit requests for special accommodations by 5:00 p.m. ET on February 28, 2017 to the contact information indicated above.

Dated: _February 8, 2017.
Paul Johnson
Acting Deputy Chief Financial Officer/CAO, Office of Oceanic and Atmospheric Research, National Oceanic and Atmospheric Administration.

[FR Doc. 2017-02894 Filed 2-10-17; 8:45 am]

BILLING CODE 3510-KD-P